DEPARTMENT OF COMMERCE

International Trade Administration

[A-602-809, A-351-845, A-588-874, A-580- 883, A-421-813, A-489-826, A-412-825]

Certain Hot-Rolled Steel Flat Products From Australia, Brazil, Japan, the Republic of Korea, the Netherlands, the Republic of Turkey, and the United Kingdom: Final Results of the Expedited Sunset Reviews of the Antidumping Duty Orders

AGENCY: Enforcement and Compliance, International Trade Administration, Department of Commerce.

SUMMARY: As a result of these expedited sunset reviews, the Department of Commerce (Commerce) finds that revocation of the antidumping duty (AD) orders on certain hot-rolled steel flat products (hot-rolled steel) from Australia, Brazil, Japan, the Republic of Korea (Korea), the Netherlands, the Republic of Turkey (Turkey), and the United Kingdom would be likely to lead to continuation or recurrence of dumping as indicated in the “Final Results of Sunset Review” section of this notice.

DATES: Applicable January 6, 2022.

FOR FURTHER INFORMATION CONTACT: Zachary Le Vene, AD/CVD Operations, Office VII, Enforcement and Compliance, International Trade Administration, U.S. Department of Commerce, 1401 Constitution Avenue NW, Washington, DC 20230; telephone: (202) 482-0056.

SUPPLEMENTARY INFORMATION:

Background

On September 1, 2021, Commerce published the notice of initiation of the sunset reviews of the AD orders on hot-rolled steel from Australia, Brazil, Japan, Korea, the Netherlands, Turkey, and the United Kingdom ¹ pursuant to section 751(c) of the Tariff Act of 1930, as amended (the Act).² In accordance with 19 CFR 351.218(d)(1)(i) and (ii), Commerce received notices of intent to participate in these sunset reviews from California Steel Industries, Steel Dynamics, Inc., Nucor Corporation, Cleveland-Cliffs Inc., and United States Steel Corporation (domestic interested parties) within 15 days after the date of publication of the Initiation Notice.³ On September 20, 2021, Commerce received a request to amend received notices to include SSAB Enterprises LLC (SSAB) in the reviews.⁴ The domestic interested parties claimed interested party status under section 771(9)(C) of the Act, as domestic producers of hot-rolled steel in the United States.⁵

¹ See Certain Hot-Rolled Steel Flat Products from Australia, Brazil, Japan, the Republic of Korea, the Netherlands, the Republic of Turkey, and the United Kingdom: Amended Final Affirmative Antidumping Determinations for Australia, the Republic of Korea, and the Republic of Turkey and Antidumping Duty Orders, 81 FR 67962 (October 3, 2016), as amended, Certain Hot-Rolled Steel Flat Products from Turkey: Notice of Court Decision Not in Harmony with the Amended Final Determination in the Less-Than-Fair-Value Investigation; Notice of Amended Final Determination, Amended Antidumping Duty Order, Notice of Revocation of Antidumping Duty Order in Part; and Discontinuation of the 2017-18 and 2018-19 Antidumping Duty Administrative Reviews, in Part, 85 FR 29399 (May 15, 2020) (AD Orders).

² See Initiation Notice of Five-Year (Sunset) Reviews, 86 FR 48983 (September 1, 2021) (Initiation Notice).

³ See Domestic Interested Parties' Letters, “Five-Year (“Sunset”) Review Of Antidumping Duty Order On Certain Hot-Rolled Steel Flat Products from Australia: Notice of Intent to Participate in Sunset Review,” dated September 16, 2021; “Five-Year (`Sunset') Review of Antidumping Duty Order on Certain Hot-Rolled Steel Flat Products from Australia: Notice of Intent to Participate,” dated September 16, 2021; “Notice of Intent to Participate in the First Five-Year Review of the Antidumping Duty Order on Hot-Rolled Steel Flat Products from Australia,” dated September 16, 2021; “Notice of Intent to Participate in the First Five-Year Review of the Antidumping Duty Order on Hot-Rolled Steel Flat Products from Australia” as amended to include SSAB Enterprises LLC (SSAB), dated September 16, 2021 and amended September 20, 2021; “Hot-Rolled Steel Flat Products from Australia: Notice of Intent to Participate in Sunset Review,” dated September 16, 2021; “Five-Year (`Sunset') Review of Antidumping Duty Order on Certain Hot-Rolled Steel Flat Products from Brazil: Notice of Intent to Participate in Sunset Review,” dated September 16, 2021; “Five-Year (`Sunset') Review of Antidumping and Countervailing Duty Orders on Certain Hot-Rolled Steel Flat Products from Brazil: Notice of Intent to Participate,” dated September 16, 2021; “Notice of Intent to participate in the First Five-Year Review of the Antidumping Duty Order on Hot-Rolled Steel Flat Products from Brazil” as amended to include SSAB Enterprises LLC (SSAB), dated September 16, 2021 and amended September 20, 2021; “Hot-Rolled Steel Flat Products from Brazil: Notice of Intent to Participate in Sunset Review,” dated September 16, 2021; “Five-Year (`Sunset') Review of Antidumping Duty Order on Certain Hot-Rolled Steel Flat Products from Japan: Notice of Intent to Participate in Sunset Review,” dated September 16, 2021; “Notice of Intent to Participate in the First Five-Year Review of the Antidumping Duty Order on Hot-Rolled Steel Flat Products from Japan” as amended to include SSAB Enterprises LLC (SSAB), dated September 16, 2021 and amended September 20, 2021; “Five-Year (`Sunset') Review of Antidumping Duty Order on Certain Hot-Rolled Steel Flat Products from Japan: Notice of Intent to Participate,” dated September 16, 2021; “Hot-Rolled Steel Flat Products from Japan: Notice of Intent to Participate in Sunset Review,” dated September 16, 2021; “Five-Year (`Sunset') Review of Antidumping Duty Order on Certain Hot-Rolled Steel Flat Products from the Republic of Korea: Notice of Intent to Participate in Sunset Review,” dated September 16, 2021; “Five-Year (`Sunset') Review of Antidumping and Countervailing Duty Orders on Certain Hot-Rolled Steel Flat Products from the Republic of Korea: Notice of Intent to Participate,” dated September 16, 2021; “Notice of Intent to Participate in the First Five-Year Review of the Antidumping Duty Order on Hot-Rolled Steel Flat Products from Korea” as amended to include SSAB Enterprises LLC (SSAB), dated September 16, 2021 and amended September 20, 2021; “Hot-Rolled Steel Flat Products from the Republic of Korea: Notice of Intent to Participate in Sunset Review,” dated September 16, 2021; “Five-Year (`Sunset') Review of Antidumping Duty Order on Certain Hot-Rolled Steel Flat Products from the Netherlands: Notice of Intent to Participate in Sunset Review,” dated September 16, 2021; “Five-Year (`Sunset') Review of Antidumping Duty Order on Certain Hot-Rolled Steel Flat Products from the Netherlands: Notice of Intent to Participate,” dated September 16, 2021; “Notice of Intent to Participate in the First Five-Year Review of the Antidumping Duty Order on Hot-Rolled Steel Flat Products from the Netherlands” as amended to include SSAB Enterprises LLC (SSAB), dated September 16, 2021 and amended September 20, 2021; “Hot-Rolled Steel Flat Products from the Netherlands: Notice of Intent to Participate in Sunset Review,” dated September 16, 2021; “Five-Year (“Sunset”) Review of Antidumping Duty Order on Certain Hot-Rolled Steel Flat Products from the Republic of Turkey: Notice of Intent to Participate in Sunset Review,” dated September 16, 2021; “Five-Year (`Sunset') Review of Antidumping Duty Order on Certain Hot-Rolled Steel Flat Products from the Republic of Turkey: Notice of Intent to Participate,” dated September 16, 2021; “Notice of Intent to Participate in the First Five-Year Review of the Antidumping Duty Order on Hot-Rolled Steel Flat Products from Turkey” as amended to include SSAB Enterprises LLC (SSAB), dated September 16, 2021 and amended September 20, 2021; “Hot-Rolled Steel Flat Products from Turkey: Notice of Intent to Participate in Sunset Review,” dated September 16, 2021; “Five-Year (`Sunset') Review of Antidumping Duty Order on Certain Hot-Rolled Steel Flat Products from the United Kingdom: Notice of Intent to Participate in Sunset Review,” dated September 16, 2021; “Five-Year (`Sunset') Review of Antidumping Duty Order on Certain Hot-Rolled Steel Flat Products from the United Kingdom: Notice of Intent to Participate,” dated September 16, 2021; “Notice of Intent to Participate in the First Five-Year Review of the Antidumping Duty order on Hot-Rolled Steel Flat Products from the United Kingdom” as amended to include SSAB Enterprises LLC (SSAB), dated September 16, 2021 and amended September 20, 2021; “Hot-Rolled Steel Flat Products from the United Kingdom: Notice of Intent to Participate in Sunset Review,” dated September 16, 2021 (collectively, Notices of Intent to Participate).

⁴ See Interested Parties' Letters, “Amendment to Notice of Intent to Participate in the First Five-Year Review of the Antidumping Duty Order on Hot-Rolled Steel Flat Products from Australia”; “Amendment to Notice of Intent to Participate in the First Five-Year Review of the Antidumping Duty Order on Hot-Rolled Steel Flat Products from Brazil”; “Amendment to notice of Intent to Participate in the First Five-Year Review of the Antidumping Duty Order on Hot-Rolled Steel Flat Products from Japan”; “Amendment to Notice of Intent to Participate in the First Five-Year Review of the Antidumping Duty order on Hot-Rolled Steel Flat Products from Korea”; “Amendment to Notice of Intent to Participate in the First Five-Year Review of the Antidumping Duty order on Hot-Rolled Steel Flat Products from the Netherlands”; “Amendment to Notice of Intent to Participate in the First Five-year Review of the Antidumping Duty Order on Hot-Rolled Steel Flat Products from Turkey”; “Amendment to Notice of Intent to Participate in the First Five-Year Review of the Antidumping Duty Order on Hot-Rolled Steel Flat Products from the United Kingdom,” each dated September 20, 2021.

⁵ Note that some domestic interested parties are not participating in every review. See country-specific substantive responses for a specific list of the domestic interested parties participating in each county review.

Commerce received adequate substantive responses to the Initiation Notice from the domestic interested parties within the 30-day period specified in 19 CFR 351.218(d)(3)(i).⁶ Commerce received no substantive responses from any respondent interested parties.

⁶ See Domestic Interested Parties' Letters, “Hot-Rolled Steel Flat Products from Australia: Substantive Response of the Domestic Interested Parties to Commerce's Notice of Initiation of Five-Year (`Sunset') Reviews,” dated September 30, 2021; “Hot-Rolled Steel Flat Products from Japan: Substantive Response of the Domestic Interested Parties to Commerce's Notice of Initiation of Five-Year (`Sunset') Reviews,” dated September 30, 2021; “First Five-years (“Sunset”) Review of the Antidumping Order on Hot-Rolled Steel Flat Products from Brazil: Domestic Industry's Substantive Response to Notice of Initiation,” dated September 30, 2021; “Five-Year (`Sunset”) Review of Antidumping Duty Order on Certain Hot-Rolled Steel Flat Products from the Netherlands: Domestic Industry Substantive Response,” dated September 29, 2021; “Five-Year (`Sunset') Review of Antidumping Duty Order on Certain Hot-Rolled Steel Flat Products from the United Kingdom: Domestic Industry Substantive Response,” dated September 29, 2021 (collectively, Domestic Interested Parties' Substantive Responses).

On October 21, 2021, Commerce notified the U.S. International Trade Commission that it did not receive an adequate substantive response from respondent interested parties.⁷ As a result, pursuant to section 751(c)(3)(B) of the Act and 19 CFR 351.218(e)(1)(ii)(C)(2), Commerce conducted an expedited (120-day) sunset reviews of the AD Orders.

⁷ See Commerce's Letter, “Sunset Reviews Initiated on September 1, 2021,” dated October 21, 2021.

Scope of the AD Orders

The merchandise subject to the AD Orders is hot-rolled steel flat products. A full description of the scope of the AD Orders is contained in the Issues and Decision Memorandum.⁸ The written description is dispositive.

⁸ See Memorandum, “Issues and Decision Memorandum for the Expedited Sunset Reviews of the Antidumping Duty Orders on Certain Hot-Rolled Steel Flat Products from Australia, Brazil, Japan, the Republic of Korea, the Netherlands, the Republic of Turkey, and the United Kingdom,” dated concurrently with, and hereby adopted by, this notice (Issues and Decision Memorandum).

Analysis of Comments Received

All issues raised in this review are addressed in the Issues and Decision Memorandum, including the likelihood of continuation or recurrence of dumping in the event of revocation and the magnitude of dumping margins likely to prevail if the orders were revoked. Parties can find a complete discussion of all issues raised in this review and the corresponding recommendations in the Issues and Decision Memorandum, which is on file electronically via Enforcement and Compliance's Antidumping and Countervailing Duty Centralized Electronic Service System (ACCESS). ACCESS is available to registered users at http://access.trade.gov. In addition, a complete version of the Issues and Decision Memorandum can be accessed directly at https://access.trade.gov/public/FRNotices/ListLayout.aspx.

Final Results of Sunset Reviews

Pursuant to sections 751(c) and 752(c) of the Act, Commerce determines that revocation of the AD Orders would be likely to lead to continuation or recurrence of dumping and the magnitude of the margins of dumping likely to prevail would be weighted-average margins up to the following percentages:

Country | Weighted-average margin (percent)
Australia | 29.58
Brazil | 34.28
Japan | 11.70
Korea | 11.10
The Netherlands | 3.73
Turkey | 24.32
United Kingdom | 33.06

Notification Regarding Administrative Protective Orders

This notice serves as a reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

Commerce is issuing and publishing these final results and notice in accordance with sections 751(c), 752(c), and 777(i)(1) of the Act and 19 CFR 351.221(c)(5)(ii).

Dated: December 29, 2021.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Orders

IV. History of the Orders

V. Legal Framework

VI. Discussion of the Issues

VII. Final Results of Expedited Sunset Reviews

VIII. Recommendation

[FR Doc. 2022-00019 Filed 1-5-22; 8:45 am]

BILLING CODE 3510-DS-P